DEPARTMENT OF HOMELAND SECURITY

Coast Guard

33 CFR Part 100

[Docket No. USCG-2008-0386]

RIN 1625-AA08

Marine Events Regattas; Annual Marine Events in the Eighth Coast Guard District

AGENCY: Coast Guard, DHS.

ACTION: Final rule.

SUMMARY: The Coast Guard is updating the list of marine events and regattas that take place in the Eighth Coast Guard District and changing patrol requirements for these events. This update informs the public of regularly scheduled regattas and marine events and facilitates effective control over regattas and marine events to insure safety of life in each regatta or marine event area.

DATES: This final rule is effective June 15, 2009.

ADDRESSES: Comments and material received from the public, as well as documents mentioned in this preamble as being available in the docket, are part of docket USCG-2008-0386 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, selecting the Advanced Docket Search option on the right side of the screen, inserting USCG-2008-0386 in the Docket ID box, pressing Enter, and then clicking on the item in the Docket ID column.

FOR FURTHER INFORMATION CONTACT: If you have questions on this rule, call or e-mail Dr. Madeleine McNamara, Eighth Coast Guard District Prevention Division, at (504) 671-2103 or Madeleine.W.McNamara@uscg.mil. If you have questions on viewing the docket, call Renee V. Wright, Program Manager, Docket Operations, telephone 202-366-9826.

SUPPLEMENTARY INFORMATION:

Table of Contents for Preamble

I. Abbreviations

II. Regulatory History

III. Background

IV. Discussion of Comments and Changes

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

DHS—Department of Homeland Security.

FR—Federal Register.

§—Section symbol.

U.S.C.—United States Code.

II. Regulatory History

On June 16, 2008, we published a notice of proposed rulemaking entitled “Marine Events Regattas; Annual Marine Events in the Eighth Coast Guard District” in the Federal Register (73 FR 116). We received no comments on the proposed rule. No public meeting was requested and none was held.

III. Background

33 CFR part 100 provides regulations to provide effective control over regattas and marine parades conducted on U.S. navigable waters to insure safety of life in the regattas or marine parade area. Section 100.801 list recurring events that take place in the Eighth Coast Guard District. This section needed to be updated because the Coast Guard reorganized Coast Guard Group Offices and Marine Safety Offices into Coast Guard Sectors and because the list of events in Table 1 of Sec.100.801 was out of date needed to be revised to reflect current events.

This regulation also modifies Coast Guard patrol requirements for Eighth Coast Guard District regattas and marine parades. Section 100.801(a) requires the Coast Guard to patrol marine events in the Eighth Coast Guard District. The Coast Guard feels that not all events require Coast Guard patrols and therefore leaves the decision of whether to patrol these events to the discretion of the local Coast Guard Captain of the Port.

IV. Discussion of Comments and Changes

No comments were received regarding the published NPRM. Therefore, the final rule text is largely the same as the text published in the NPRM.

The following general changes were made to the regulatory text. Paragraph (i) was added to clarify the definition of each regulated area. Paragraph (j) was added to advise mariners of where to look for more specific information about recurring marine events. Events were renumbered for ease of reference. References to “mile markers” were changed to “miles” in recognition that not every tenth of a mile on a waterway has a signpost. Several locations were clarified by adding the name of a city or river, additional mile references, or points of latitude and longitude. Where the title of an event makes reference to the year or the number of recurances (i.e. “Riverfest 2007” or “Rodeofest XXVI”), the year or number was removed.

The following specific changes were made to individual regulated areas. Within each Sector's list of events, each event is referred to by the event number in the NPRM, then the new number assigned in the final rule, then the title of the event.

I. Sector Ohio Valley

7./7. Indiana Governor's Cup

“Four days” was clarified to “Thursday through Sunday.”

27./[n/a] Dragon Boat Festival

The Dragon Boat Festival in Pittsburgh, PA, was removed from the list entirely.

II. Sector Upper Mississippi River

1./29. Hudson Hot Air Affair.

Clarified the regulated area by adding upper and lower bounds.

3./31. St. Patrick's Water Parade.

This event is deleted from the Final Rule. The regulated area “Lake of the Ozarks mile 013.0” was not the intended area. The space in the table is reserved to facilitate re-adding this event in a future rulemaking.

4./32. Deke Slayton Airfest, LaCrosse

Clarified the regulated area by adding upper and lower bounds.

7./35. Lodge of the Four Seasons Memorial Day

Clarified the regulated area by adding upper and lower bounds.

9./37. Burlington Steamboat Days

Clarified the regulated area by adding upper and lower bounds.

11./39. Taste of the Quad Cities

Clarified the regulated area by adding upper and lower bounds.

12./40. Great Rivers Towboat Festival

Clarified the regulated area by adding upper and lower bounds.

14./42. Taste of Minnesota

Clarified the regulated area by adding upper and lower bounds.

15./43. Sioux City Big Parade

Clarified the regulated area by adding upper and lower bounds.

16./44. KC Riverfest/Kansas City Riverfest

Clarified the regulated area by adding upper and lower bounds. Clarified event name and sponsor.

19./47. 3rd Annual Dosh River Rally/Annual Dosh River Rally

Clarified the regulated area by adding upper and lower bounds. Removed “3rd” from event name.

23./51. Riverfest 2007/Riverfest

Removed “2007” from event name.

24./52. Red White and Boom

Clarified the regulated area by adding upper and lower bounds.

27./55. John E. Curran Fireworks

Clarified the regulated area by adding upper and lower bounds.

29./57. Red White and Boom Peoria

Reordered upper and lower bounds.

31./59. Minneiska 4th of July

Clarified the regulated area by adding upper and lower bounds.

34./62. Hermann 4th of July

Clarified the regulated area by adding upper and lower bounds.

37./65. Mike Herrington Fireworks

Clarified the regulated area by adding upper and lower bounds.

38./66. Riverfest, La Crosse

Clarified the regulated area by adding upper and lower bounds.

40./68. Grafton Chamber 4th of July Fireworks

Clarified the regulated area by adding upper and lower bounds.

41./69. Parkville 4th of July Fireworks

Clarified the regulated area by adding upper and lower bounds.

42./70. Harrah's Fireworks Extravaganza

Clarified the regulated area by adding upper and lower bounds.

43./71. Hooligan Bay Fireworks Display

Clarified the regulated area by adding upper and lower bounds.

44./72. Tan-Tar-A 4th of July Fireworks

Clarified the regulated area by adding upper and lower bounds.

45./73. Red White and Boom Minneapolis

Clarified the regulated area by adding upper and lower bounds.

47./75. Lodge of the Four Seasons 4th of July

Clarified the regulated area by adding upper and lower bounds.

48./76. Gravois Mills Fireworks

Clarified the regulated area by adding upper and lower bounds.

50./78. Prairie du Chien Area Chamber Fireworks

Clarified the regulated area by adding upper and lower bounds.

52./80. Stars and Stripes River Day

Clarified the regulated area by adding upper and lower bounds.

53./81.

Clarified the regulated area by adding upper and lower bounds.

54./82. Lumberjack Days

Clarified the regulated area by adding upper and lower bounds.

55./83. Prairie Air Show

Clarified the regulated area by adding upper and lower bounds.

59./87. Cassville Twin-O-Rama

Clarified the regulated area by adding upper and lower bounds.

61./89. River City Days

Clarified the regulated area by adding upper and lower bounds.

62./90. New Piasa Chataqua

Clarified the regulated area by adding upper and lower bounds.

67./95. Tan-Tar-A-Fireworks

Clarified the regulated area by adding upper and lower bounds.

68./96. Mike Herrington Labor Day Fireworks

Clarified the regulated area by adding upper and lower bounds.

69./97. Lodge of the Four Seasons

Clarified the regulated area by adding upper and lower bounds.

74./102. Railroad Days

Clarified the regulated area by adding upper and lower bounds.

Sector Houston-Galveston

1./117. Port Arthur Fourth of July Fireworks Demonstration.

Replaced references to “Wilson Middle School” and “Old Golf Course Road” with miles on the waterway.

Sector New Orleans

4./131. Lundi Gras River Parade and Fireworks Display

Clarified regulated area by removing extraneous details.

Sector Mobile Events

1./141. Seroma's 4th of July

Defined regulated area using latitude and longitude instead of local landmarks and defined the regulated area as a radius instead of a point.

2./142. South Georgia Showdown

Defined regulated area using miles on the Flint River instead of landmarks.

3./143. Thunder on the Gulf

Defined regulated area as a four sided box using latitude and longitude points instead of landmarks.

4./144. GYA Challenge Cup

This event was removed from the list but the line is reserved to facilitate re-adding the event in the future.

8./148. Isle of Capri Anniversary Celebration

Defined regulated area using latitude and longitude instead of local landmarks.

15./155. Christmas Afloat

Clarified the regulated area.

20./160. Blue Angels Air Show

Defined the regulated area to exclude the interior waters of Pensacola Bay.

22./162. Mardi Gras Boat Parade

Clarified the regulated area.

23./163. Blessing of the Fleet

Clarified the regulated area.

V. Regulatory Analyses

We developed this rule after considering numerous statutes and executive orders related to rulemaking. Below we summarize our analyses based on 13 of these statutes or executive orders.

A. Regulatory Planning and Review

This rule is not a significant regulatory action under section 3(f) of Executive Order 12866, Regulatory Planning and Review, and does not require an assessment of potential costs and benefits under section 6(a)(3) of that Order. The Office of Management and Budget has not reviewed it under that Order.

The Coast Guard expects the economic impact of this rule to be so minimal that a full regulatory evaluation is unnecessary.

The regattas and marine parades listed in this rule will restrict vessel traffic from transiting certain areas of Eighth Coast Guard District waters; however the effect of this regulation will not be significant because these events are short duration and the special local regulation governing vessel movements and restrictions are also short duration. Additionally, the public is given advance notification through the Federal Register and thus will be able to plan operations around the event in advance.

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

This proposed rule may affect the following entities, some of which might be small entities: the owners or operators of vessels intending to transit the regulated area during the regattas or marine parade. The special local regulations will not have a significant economic impact on a substantial number of small entities for the following reasons. This rule will be in effect for short periods of times and vessel traffic can pass safely around the regulated area or through the regulated area with permission of the patrol commander. And before the effective period, the Coast Guard Captain of the Port will issue maritime advisories widely available to users of the river. Therefore, the Coast Guard certifies under 5 U.S.C. 605(b) that this final rule will not have a significant economic impact on a substantial number of small entities.

C. Assistance for Small Entities

Under section 213(a) of the Small Business Regulatory Enforcement Fairness Act of 1996 (Pub. L. 104-121), we offered to assist small entities in understanding the rule so that they could better evaluate its effects on them and participate in the rulemaking. Small entities were given a point-of-contact to direct questions regarding the provisions of this rule and options for compliance. The Coast Guard will not retaliate against small entities that question or complain about this rule or any policy or action of the Coast Guard.

D. Collection of Information

This rule calls for no new collection of information under the Paperwork Reduction Act of 1995 (44 U.S.C. 3501-3520).

E. Federalism

A rule has implications for federalism under Executive Order 13132, Federalism, if it has a substantial direct effect on State or local governments and would either preempt State law or impose a substantial direct cost of compliance on them. We have analyzed this rule under that Order and have determined that it does not have implications for federalism.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

G. Taking of Private Property

This rule will not effect a taking of private property or otherwise have taking implications under Executive Order 12630, Governmental Actions and Interference with Constitutionally Protected Property Rights.

H. Civil Justice Reform

This rule meets applicable standards in sections 3(a) and 3(b)(2) of Executive Order 12988, Civil Justice Reform, to minimize litigation, eliminate ambiguity, and reduce burden.

I. Protection of Children

We have analyzed this rule under Executive Order 13045, Protection of Children from Environmental Health Risks and Safety Risks. This rule is not an economically significant rule and does not create an environmental risk to health or risk to safety that may disproportionately affect children.

J. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

K. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023.1 and Commandant Instruction M16475.lD, which guide the Coast Guard in complying with the National Environmental Policy Act of 1969 (NEPA) (42 U.S.C. 4321-4370f), and have concluded that this action is one of a category of actions which do not individually or cumulatively have a significant effect on the human environment. This rule is categorically excluded under section 2.B.2, figure 2-1, paragraph (34)(h) of the Instruction.

List of Subjects in 33 CFR Part 100

Marine safety, Navigation (water), Reporting and recordkeeping requirements, and Waterways.

For the reasons discussed in the preamble, the Coast Guard amends 33 CFR part 100 as follows:

PART 100—SAFETY OF LIFE ON NAVIGABLE WATERS

1. The authority citation for part 100 continues to read as follows:

Authority: 33 U.S.C. 1233.

2. Amend § 100.801 to revise paragraph (a), add paragraphs (i) and (j), and revise table 1 to read as follows:

§ 100.801 Annual Marine Events in the Eighth Coast Guard District.

* * * * *

(a) The Coast Guard may patrol the event area under the direction of a designated Coast Guard Patrol Commander. The Patrol Commander may be contacted on Channel 16 VHF-FM (156.8 MHz) by the call sign “PATCOM.”

* * * * *

(i) In Table 1 to this section, where a regulated area is described by reference to miles of a river, channel or lake, the regulated area includes all waters between the indicated miles as defined by lines drawn perpendicular to shore passing through the indicated points.

(j) In Table 1 to this section, where alternative dates are described (“third or fourth Saturday”), the exact date and times will be advertised by the Coast Guard through Local Notices to Mariners and Broadcast Notices to Mariners.

Table 1 of § 100.801—Eighth Coast Guard District Table of Annual Marine Events
I. SECTOR OHIO VALLEY
1. WEBN/Riverfest Fireworks
Sponsor: WEBN.
Date: The Sunday before Labor Day.
Regulated Area: Ohio River miles 469.2-470.5, Cincinnati, OH.
2. Aurora Thunder Regatta
Sponsor: Aurora Riverfront Beautification Committee.
Date: The last weekend in August.
Regulated Area: Ohio River channel miles 496.0-499.0, Aurora, IN.
3. Ohio River Way Paddlefest
Sponsor: Ohio River Way (Paddlefest).
Date: The last weekend in June.
Regulated Area: Ohio River miles 461.5-470.5, Cincinnati, OH.
4. Thunder Over Louisville.
Sponsor: Thunder Over Louisville.
Date: Five days during the 2nd half of April.
Regulated Area: Ohio River miles 602.0-606.0, Louisville, KY.
5. Kentucky Derby Festival Great Steamboat Race
Sponsor: Kentucky Derby Festival/Belle of Louisville Operating Board.
Date: One day during the last week in April or the first week in May.
Regulated Area: Ohio River miles 596.0-604.3, Louisville, KY.
6. Thunder on the Ohio
Sponsor: Evansville Freedom Festival.
Date: Six days during the last week in June and/or the first week in July.
Regulated Area: Ohio River miles 791.0-795.0, Evansville, IN.
7. Indiana Governor's Cup
Sponsor: Madison Regatta Inc.
Date: Thursday through Sunday over the 1st weekend in July.
Regulated Area: Ohio River miles 555.0-560.0, Madison, IN.
8. Kentucky Drag Boat Association Inc.: Drag Boat Races
Sponsor: Kentucky Drag Boat Association Inc.
Date: Three days between August 15th and August 31st.
Regulated Area: Green River miles 70.0-71.5, Livermore, KY.
9. Ducks on the Ohio
Sponsor: Goodwill Industries, Inc.
Date: One day between August 15th and September 30th.
Regulated Area: Ohio River miles 791.5-793.5, Evansville, IN.
10. Clarksville Riverfest—Wakeboard Contest, Regatta, Fireworks
Sponsor: City of Clarksville, TN.
Date: The 2nd weekend in September.
Regulated Area: Cumberland River miles 125-126.
11. Spirit of Freedom Fireworks Florence, TN—Fireworks
Sponsor: Urban Broadcasting.
Date: July 4th.
Regulated Area: Tennessee River miles 255-257.
12. Lake Guntersville 4th of July Celebration—Fireworks
Sponsor: Lake Guntersville, AL Chamber of Commerce.
Date: July 4th.
Regulated Area: Tennessee River miles 356-358.
13. The Great Kiwanis Duck Race—Rubber Duck Regatta
Sponsor: Kiwanis Club of Chattanooga, TN.
Date: The 3rd weekend in June.
Regulated Area: Tennessee River miles 463-464.
14. Chattanooga Dragon Boat Festival—Rowing Race
Sponsor: Dynamic Events and Management.
Date: The 1st weekend in August.
Regulated Area: Tennessee River miles 463-464.
15. Pickwick Challenge—Powerboat Race
Sponsor: Pickwick Challenge, LLC.
Date: The 1st weekend in May.
Regulated Area: Tennessee River miles 206-210.
16. Lighting Up the Cumberland—Fireworks
Sponsor: Town of Cumberland City, TN.
Date: The Saturday before July 4th, or on July 4th if that day is a Saturday.
Regulated Area: Cumberland River miles 103-105.
17. Knoxville Dragon Boat Races—Rowing Race
Sponsor: Dynamic Events & Management.
Date: The 4th Weekend in August.
Regulated Area: Tennessee River miles 647-648.
18. Marietta Invitational Rowing Regatta
Sponsor: Marietta High School.
Date: One day during the 2nd or 3rd weekend in April.
Regulated Area: Muskingum River miles 0.5-1.5, Marietta, OH.
19. West Virginia Governor's Cup Regatta
Sponsor: University of Charleston.
Date: One day during the 2nd or 3rd weekend in April.
Regulated Area: Kanawha River miles 59.5-62.0, Charleston, WV.
20. Point Pleasant Sternwheel Regatta
Sponsor: City of Point Pleasant.
Date: Three days during the 1st or 2nd weekend in July.
Regulated Area: Ohio River miles 265.0-266.0, Point Pleasant, WV.
21. Charleston 4th of July Celebration
Sponsor: City of Charleston.
Date: Two days during the 1st week in July.
Regulated Area: Kanawha River miles 57.5-59.0, Charleston, WV.
22. Summer Motion
Sponsor: Summer Motion Inc.
Date: Three days during the 1st week in July.
Regulated Area: Ohio River miles 321.6-323.3.
23. Marietta Riverfront Roar Tunnel Boat Races
Sponsor: Marietta Riverfront Roar.
Date: Two days during either the 2nd or 3rd weekend in July.
Regulated Area: Ohio River miles 171.5-172.5, Marietta, OH.
24. Dawg Dazzle Fireworks Spectacular
Sponsor: Big Sandy Superstore Arena.
Date: One day during the 1st week in July.
Regulated Area: Ohio River miles 307.8-308.8, Huntington, WV.
25. Brundage Memorial Regatta
Sponsor: Brundage Regatta Committee.
Date: One day during the 3rd or 4th weekend in May.
Regulated Area: Ohio River miles 182.5-183.5.
26. St. Mary Medical Center Foundation Gala
Sponsor: St. Mary Medical Center Foundation.
Date: One day during the 2nd or 3rd weekend in May.
Regulated Area: Ohio River miles 307.8-308.8.
27. Pirates Fireworks
Sponsor: Pittsburgh Pirates.
Date: Every Saturday from April through September.
Regulated Area: Allegheny River miles 0.4-0.6, Pittsburgh, PA.
28. Wheeling Vintage Regatta
Sponsor: Wheeling Vintage Race Boat Association.
Date: Labor Day weekend.
Regulated Area: Ohio River miles 90.4-91.5, Wheeling, WV.
II. SECTOR UPPER MISSISSIPPI RIVER
29. Hudson Hot Air Affair
Sponsor: Hudson Hot Air Affair, Inc.
Dates: The 1st Friday in February.
Regulated Area: St. Croix River miles 16.5-16.9.
30. Winter Carnival—Comcast Fireworks
Sponsor: St. Paul Festival and Heritage Foundation.
Dates: The 1st Saturday in February.
Regulated Area: Upper Mississippi River miles 840.5-841.0.
31. [RESERVED].
32. Deke Slayton Airfest, LaCrosse
Sponsor: Deke Slayton Airfest.
Dates: Three days during the 3rd week in May.
Regulated Area: Upper Mississippi River miles 702.5-703.5.
33. That Was Then, This Is Now Boat Show & Exhibition
Sponsor: Clear Lake Chapter of the ACBS.
Dates: The 3rd Saturday in May.
Regulated Area: Upper Mississippi River miles 454.0-456.0.
34. Tan-Tar-A Memorial Day Fireworks
Sponsor: Tan-Tar-A Resort.
Dates: The last Sunday in May.
Regulated Area: Lake of the Ozarks miles 025.5-26.5.
35. Lodge of the Four Seasons Memorial Day
Sponsor: Lodge of the Four Seasons.
Dates: The last Sunday in May.
Regulated Area: Lake of the Ozarks miles 013.5-14.5.
36. Steamboat Sports Festival
Sponsor: Peoria Area Community Events.
Dates: Two days during the 2nd weekend in June.
Regulated Area: Illinois River miles 162.3-163.7.
37. Burlington Steamboat Days
Sponsor: Burlington Steamboat Days.
Dates: The 3rd Sunday in June.
Regulated Area: Upper Mississippi River miles 403.5-404.5.
38. Winona Steamboat Days Fireworks
Sponsor: Winona Steamboat Days Festival.
Dates: The 3rd Sunday in June.
Regulated Area: Upper Mississippi River miles 725.4-725.7.
39. Taste of the Quad Cities
Sponsor: Taste of the Quad Cities.
Dates: The 2nd Friday in June.
Regulated Area: Upper Mississippi River mile 485.0-485.5.
40. Great Rivers Towboat Festival
Sponsor: Great Rivers Towboat Festival.
Dates: Two days during the 3rd Weekend in June.
Regulated Area: Illinois River miles 0.2-0.5
41. Water Ski Days
Sponsor: Lake City Chamber of Commerce.
Dates: Two days during the 3rd Weekend in June.
Regulated Area: Upper Mississippi River miles 772.4-772.8.
42. Taste of Minnesota
Sponsor: Taste of Minnesota.
Dates: Five days during the last week in June and/or the first week in July.
Regulated Area: Upper Mississippi River mile 839.5-840.5.
43. Sioux City Big Parade
Sponsor: City of Sioux City.
Dates: One day during the last weekend in June.
Regulated Area: Missouri River miles 731.0-733.0
44. Kansas City Riverfest
Sponsor: Friends of the River (FOR-KC), Inc.
Dates: One day during the last weekend in June or the first weekend in July.
Regulated Area: Missouri River miles 365.5-370.5.
45. Bellevue Heritage Days
Sponsor: Bellevue Heritage Days.
Dates: One day during the last weekend in June or the first weekend in July.
Regulated Area: Upper Mississippi River miles 556.6-557.0.
46. Hudson Booster Days
Sponsor: Hudson Boosters.
Dates: One day during the last weekend in June or the first weekend in July.
Regulated Area: St. Croix River miles 017.0-017.2.
47. Annual Dosh River Rally
Sponsor: Village of Meredosia.
Dates: One day during the 1st weekend in July.
Regulated Area: Illinois River miles 072.0-072.2.
48. Mississippi Fireworks Festival
Sponsor: Alton Exposition Commission.
Dates: Either the 3rd or 4th day of July.
Regulated Area: Upper Mississippi River miles 202.5-203.0.
49. Radio Dubuque
Sponsor: Radio Dubuque.
Dates: Either the 3rd or 4th day of July.
Regulated Area: Upper Mississippi River miles 581.2-583.0.
50. Omaha World Herald Fireworks
Sponsor: Omaha Royals.
Dates: Either the 3rd or 4th day of July.
Regulated Area: Missouri River miles 612.1-613.9.
51. Riverfest—St. Charles
Sponsor: City of St. Charles.
Dates: July 3rd & 4th.
Regulated Area: Missouri River miles 28.2-28.8.
52. Red White and Boom
Sponsor: Davenport One Chamber.
Dates: Either the 3rd or 4th day of July.
Regulated Area: Upper Mississippi River mile 482.0-483.0.
53. Fair of St. Louis
Sponsor: Fair St. Louis.
Dates: Two days between the 1st and 4th of July.
Regulated Area: Upper Mississippi River miles 179.2-180.0.
54. Louisiana July 4th Fireworks
Sponsor: Louisiana Chamber of Commerce.
Dates: July 4th.
Regulated Area: Upper Mississippi River miles 282.0-283.0.
55. John E. Curran Fireworks
Sponsor: John E. Curran.
Dates: Either the 3rd or 4th day of July.
Regulated Area: Lake of the Ozarks mile 8.9-9.1.
56. Nauvoo 4th of July
Sponsor: Nauvoo Chamber of Commerce.
Dates: July 4th.
Regulated Area: Upper Mississippi River miles 375.0-376.0.
57. Red White and Boom Peoria
Sponsor: JMP Radio.
Dates: July 4th.
Regulated Area: Illinois River miles 162.5-162.1.
58. Stillwater 4th of July
Sponsor: City of Stillwater/St. Croix Events.
Dates: July 4th.
Regulated Area: St. Croix River miles 22.9-23.5.
59. Minneiska 4th of July
Sponsor: City of Minneiska.
Dates: July 4th.
Regulated Area: Upper Mississippi River mile 742.5.-743.5.
60. Fort Madison 4th of July
Sponsor: City of Fort Madison.
Dates: July 4th.
Regulated Area: Upper Mississippi River mile 383.0-384.0.
61. Lake City 4th of July Fireworks
Sponsor: Lake City Chamber of Commerce.
Dates: July 4th.
Regulated Area: Upper Mississippi River miles 772.4-772.8.
62. Hermann 4th of July
Sponsor: Hermann Chamber of Commerce
Dates: July 4th.
Regulated Area: Missouri River miles 98.0-99.0.
63. Muscatine 4th of July
Sponsor: Greater Muscatine Chamber of Commerce.
Dates: July 4th.
Regulated Area: Upper Mississippi River miles 455.0-456.0.
64. National Tom Sawyer Days
Sponsor: Hannibal JayCees.
Dates: July 4th.
Regulated Area: Upper Mississippi River miles 308.0-309.0.
65. Mike Herrington Fireworks
Sponsor: Mike Herrington.
Dates: July 4th.
Regulated Area: Lake of the Ozarks miles 1.5-2.5.
66. Riverfest, La Crosse
Sponsor: Riverfest, Inc.
Dates: 4 days during the 1st or 2nd week of July.
Regulated Area: Upper Mississippi River miles 697.5-698.5.
67. Salute to America
Sponsor: Salute to America Foundation, Inc.
Dates: July 4th.
Regulated Area: Missouri River miles 143.0-143.5.
68. Grafton Chamber 4th of July Fireworks
Sponsor: Grafton Chamber of Commerce.
Dates: July 4th.
Regulated Area: Illinois River miles 0.5-1.5.
69. Parkville 4th of July Fireworks
Sponsor: Main Street Parkville Assoc.
Dates: July 4th.
Regulated Area: Missouri River miles 377.2-378.2.
70. Harrah's Fireworks Extravaganza
Sponsor: Harrah's Casino and Hotel.
Dates: July 4th.
Regulated Area: Missouri River miles 614.8-615.8.
71. Hooligan Bay Fireworks Display
Sponsor: Hooligan Bay Resort.
Dates: July 4th.
Regulated Area: Lake of the Ozarks miles 37.5-38.5.
72. Tan-Tar-A 4th of July Fireworks
Sponsor: Tan-Tar-A Resort.
Dates: July 4th.
Regulated Area: Lake of the Ozarks miles 25.5-26.5.
73. Red, White and Boom Minneapolis
Sponsor: Minneapolis Park and Recreation Board.
Dates: July 4th.
Regulated Area: Upper Mississippi River miles 853.5-854.5.
74. Chillicothe 4th of July
Sponsor: Chillicothe 4th of July.
Dates: July 4th.
Regulated Area: Illinois River miles 179.1-180.1.
75. Lodge of the Four Seasons 4th of July
Sponsor: Lodge of the Four Seasons.
Dates: July 4th.
Regulated Area: Lake of the Ozarks miles 13.5-14.5.
76. Gravois Mills Fireworks
Sponsor: Town of Gravois.
Dates: One day during the 1st week of July.
Regulated Area: Lake of the Ozarks miles 9.5-10.5.
77. Live on the Levee
Sponsor: Fair St. Louis.
Dates: Friday and Saturday of every weekend from the 2nd week of July until the 2nd week in August.
Regulated Area: Upper Mississippi River miles 179.2-180.0.
78. Prairie du Chien Area Chamber Fireworks
Sponsor: Prairie du Chien Area Chamber of Commerce.
Dates: One day during the 2nd weekend of July.
Regulated Area: Upper Mississippi River miles 633.5-634.5.
79. Clinton Riverboat Days
Sponsor: Clinton Riverboat Days.
Dates: Two days during the 2nd weekend of July.
Regulated Area: Upper Mississippi River miles 518.0-519.0.
80. Stars and Stripes River Day
Sponsor: Naturally Guttenberg.
Dates: One day during the 2nd weekend of July.
Regulated Area: Upper Mississippi River miles 614.5-615.5.
81. Sioux City Rivercade
Sponsor: Rivercade Association.
Dates: One day during the 3rd week in July.
Regulated Area: Missouri River miles 731.7-732.7.
82. Lumberjack Days
Sponsor: St. Croix Events.
Dates: Four days during the 3rd week in July.
Regulated Area: St. Croix River miles 22.9-28.5.
83. Prairie Air Show
Sponsor: Prairie Airshow, Inc.
Dates: One day during the 2nd weekend in July.
Regulated Area: Illinois River miles 161.5-162.5.
84. Aquatennial Power Boat Grand Prix
Sponsor: Champboat Series LLC.
Dates: Two days during the 3rd weekend in July.
Regulated Area: Upper Mississippi River miles 854.8-855.8.
85. Target Aquatennial Fireworks
Sponsor: Marketing Minneapolis, LLC.
Dates: One day during the 3rd weekend in July.
Regulated Area: Upper Mississippi River miles 853.2-854.2.
86. Rivertown Days
Sponsor: Hasting Riverboat Days.
Dates: Two days during the 3rd weekend in July.
Regulated Area: Upper Mississippi River miles 812.0-815.3.
87. Cassville Twin-o-Rama
Sponsor: Cassville Twin-O-Rama.
Dates: One day during the 3rd weekend in July.
Regulated Area: Upper Mississippi River mile 606.0-607.0.
88. Amelia Earhart Festival
Sponsor: Amelia Earhart Festival Committee.
Dates: The 3rd weekend in July.
Regulated Area: Missouri River miles 422.0-424.5.
89. River City Days
Sponsor: River City Days Association.
Dates: Two days during the 1st week in August.
Regulated Area: Upper Mississippi River miles 791.0-792.0.
90. New Piasa Chautaqua
Sponsor: New Piasa Chautaqua
Dates: One day during the 1st weekend in August.
Regulated Area: Upper Mississippi River miles 214.5-215.5.
91. Great River Tug
Sponsor: Tug Committee.
Dates: Two days during the 2nd weekend in August.
Regulated Area: Upper Mississippi River miles 497.2-497.6.
92. Evansville Day Drag Boat Race
Sponsor: St. Louis Drag Boat Association.
Dates: Two days during the 2nd weekend in August.
Regulated Area: Kaskaskia River miles 10.0-11.0.
93. Lansing Fish Days
Sponsor: Lansing Lions Club.
Dates: Two days during the 2nd weekend in August.
Regulated Area: Upper Mississippi River miles 662.5-663.8.
94. Lake Rescue Shoot Out
Sponsor: Lake Rescue Shoot Out INC.
Dates: Two days during the 4th weekend in August.
Regulated Area: Lake of the Ozarks miles 21.0-23.0.
95. Tan-Tar-A Fireworks
Sponsor: Tan-Tar-A Resort.
Dates: One day during the 1st weekend in September.
Regulated Area: Lake of the Ozarks miles 025.5-026.5.
96. Mike Herrington Labor Day Fireworks
Sponsor: Mike Herrington.
Dates: One day during the 1st weekend in September.
Regulated Area: Lake of the Ozarks miles 001.5-002.5.
97. Lodge of the Four Seasons
Sponsor: Lodge of the Four Seasons.
Dates: One day during the 1st weekend in September.
Regulated Area: Lake of the Ozarks miles 13.5-14.5.
98. First City Festival
Sponsor: Leavenworth Main Street Program.
Dates: Two days during the 2nd weekend in September.
Regulated Area: Missouri River miles 397.0-398.0.
99. Rodeo Cup
Sponsor: Old Fort Yacht Club.
Dates: One day during the 2nd weekend in September.
Regulated Area: Upper Mississippi River miles 374.0-375.0.
100. New Athens Drag Boat Race
Sponsor: St. Louis Drag Boat Association.
Dates: Two days during the 2nd weekend in September.
Regulated Area: Kaskaskia River miles 28.0-29.0.
101. Riverfest
Sponsor: Riverside Riverfest Committee.
Dates: Two days during the 3rd weekend in September.
Regulated Area: Missouri River miles 371.1-371.3.
102. Railroad Days
Sponsor: Marquette Action Club.
Dates: One day during the 3rd weekend in September.
Regulated Area: Upper Mississippi River miles 634.0-635.0.
103. Missouri Governor's Cup
Sponsor: Valley Sailing Club.
Dates: Two days during the 1st weekend in October.
Regulated Area: Upper Mississippi River miles 211.0-212.0.
III. SECTOR LOWER MISSISSIPPI RIVER
104. Memphis in May Canoe & Kayak Race
Sponsor: Outdoors, Inc.
Date: The 1st or 2nd Saturday in May.
Regulated Area: Lower Mississippi River miles 735.5-738.5, Memphis, TN.
105. Memphis in May Sunset Symphony Fireworks Display
Sponsor: Memphis in May International Festival, Inc.
Date: The Saturday before Memorial Day.
Regulated Area: Lower Mississippi River miles 735.0-736.0, Memphis, TN.
106. Riverfest, Little Rock, Arkansas
Sponsor: Riverfest, Inc.
Date: The Sunday before Memorial Day.
Regulated Area: Arkansas River miles 118.8-119.5, Main Street Bridge, Little Rock, AR.
107. Riverfest Fireworks Display
Sponsor: Old Fort Riverfest Committee.
Date: Either the 2nd or 3rd Saturday in June.
Regulated Area: Arkansas River miles 297.0-298.0, Fort Smith, AR.
108. Fourth of July Fireworks
Sponsor: Memphis Center City Commission.
Date: July 4th.
Regulated Area: Lower Mississippi River miles 735.5-736.5, Mud Island, Memphis, TN.
109. Pops on the River Fireworks Display
Sponsor: Arkansas Democrat-Gazette.
Date: July 4th.
Regulated Area: Arkansas River miles 118.8-119.5 near the Main Street Bridge, Little Rock, AR.
110. Uncle Sam Jam Fireworks, Alexandria, LA
Sponsor: Champion Broadcasting of Alexandria.
Date: July 4th.
Regulated Area: Red River miles 83.0-87.0, Alexandria, LA.
IV. SECTOR CORPUS CHRISTI
111. Buccaneer Days Fireworks Display
Sponsor: Buccaneer Commission, Inc.
Date: The 3rd or 4th Friday in April.
Regulated Area: Downtown waterfront, all waters inside Corpus Christi Marina breakwater, Corpus Christi Bay, TX.
112. Corpus Christi 4th of July Fireworks Display
Sponsor: Buccaneer Commission, Inc.
Date: July 4th.
Regulated Area: Downtown waterfront, all waters inside Corpus Christi Marina breakwater, Corpus Christi Bay, TX.
113. City of Port Aransas 4th of July Fireworks Display
Sponsor: City of Port Aransas.
Date: July 4th.
Regulated Area: all waters within a 600-foot radius of a point halfway between Port Aransas Harbor Daybeacon 2 to Port Aransas Ferry Landing in the Corpus Christi Ship Channel, Port Aransas, TX.
114. Bayfest Fireworks Display
Sponsor: Bayfest, Inc.
Date: The last Saturday in September.
Regulated Area: Downtown waterfront, all waters inside Corpus Christi Marina breakwater, Corpus Christi Bay, TX.
115. Harbor Lights
Sponsor: City of Corpus Christi.
Date: The 1st Saturday in December.
Regulated Area: Downtown waterfront, all waters inside Corpus Christi Marina breakwater, Corpus Christi Bay, TX.
116. Wendell Family Fireworks
Sponsor: City of Rockport.
Date: July 4th.
Regulated Area: all waters within a 700-foot radius of the northeast point of Rockport Beach Park in Rockport, TX.
V. SECTOR HOUSTON-GALVESTON
117. Port Arthur Fourth of July Fireworks Demonstration
Sponsor: The City of Port Arthur and Lamar State College.
Date: July 4th.
Regulated Area: All waters of the Sabine-Neches Canal between Intracoastal Waterway miles 284 and 285.
118. Neches River Festival and Fireworks, Beaumont, TX
Sponsor: Port Neches Chamber of Commerce.
Date: Two Days during either the 2nd or 3rd weekend in May.
Regulated Area: All waters of the Bessie Heights canal adjacent to Port Neches between the northern boundary at 30°00′00″ N and the southern boundary at 29°59′42″ N.
119. Contraband Days Fireworks Display
Sponsor: Contraband Days Festivities, Inc.
Date: The 2nd Saturday in May.
Regulated Area: In Lake Charles a 500-foot radius from the fireworks barge anchored at approximate position 30°13′05″ N, 093°13′42″ W, Lake Charles, LA.
120. Neches River 4th of July Celebration
Sponsor: City of Beaumont.
Date: July 4th.
Regulated Area: At River Front Park in Beaumont, TX, the Neches River from the Trinity Industries Dry Dock to the northeast corner of the Port of Beaumont's dock Number 5.
121. National Safe Boating Week
Sponsor: Houston Power Squadron.
Date: The last weekend in May or the first weekend in June.
Regulated Area: Clear Creek Channel from Light 2 up to, but not including, the South Shore Harbor Marina.
122. Sylvan Beach Fireworks Display, Sylvan Beach, Houston, TX
Sponsor: City of LaPorte.
Date: One day in the end of June or early July.
Regulated Area: An east-west oriented square extending 600 feet North, 600 feet South; 600 feet East, and 600 feet West centered around the fireworks launch area on the bank of Galveston Bay in the vicinity of the Sylvan Beach Bait Shop, Sylvan Beach, La Porte, TX.
123. Clear Lake Fireworks Display, Clear Lake, Houston, TX
Sponsor: Clear Lake Chamber of Commerce.
Date: July 4th.
Regulated Area: An east-west oriented rectangle extending 500 feet East, 500 feet West; 1000 feet North, and 1000 feet South, centered around the fireworks barge at Light 19 on Clear Lake, Houston, TX.
124. Blessing of the Fleet
Sponsor: Clear Lake Elks Club.
Date: The 1st Sunday in August.
Regulated Area: Clear Creek Channel from Light 2 up to, but not including, the South Shore Harbor Marina.
125. Galveston Harbor Lighted Boat Parade
Sponsor: Historic Downtown/Strand Partnership.
Date: The last Saturday in November.
Regulated Area: Galveston Channel from Pier 9 to the Pelican Island Bridge.
126. Christmas Boat Parade on Clear Lake
Sponsor: Clear Lake Area Chamber of Commerce.
Date: The 2nd Saturday in December.
Regulated Area: Clear Lake, Texas from South Shore Harbor Marina down Clear Lake Channel to Clear Creek Channel Light 2.
127. Kemah Board Walk Summer Season Fireworks Display, Kemah, TX
Sponsor: Kemah Boardwalk.
Date: July 4th and every Friday night in June and July.
Regulated Area: Clear Creek Channel, including the area within an 840-foot radius of the fireworks barge on the south side of the channel, 100 ft off of Kemah Boardwalk in Galveston, TX.
VI. SECTOR NEW ORLEANS
128. Rivertown Christmas Festival
Sponsor: City of Port Allen.
Date: The 3rd Saturday in December.
Regulated Area: Located on Levee Batture in the vicinity of the Old Ferry Landing, the Lower Mississippi River from mile marker 230-231.
129. Donaldsonville Fireworks Display
Sponsor: Donaldsonville Tourism Commission.
Date: December 31st.
Regulated Area: Located on the Levee Batture, all waters of the Lower Mississippi River from mile marker 175-176.
130. New Orleans New Years Eve
Sponsor: Mardi Gras World, Inc.
Date: December 31st.
Regulated Area: In vicinity of Jackson Square, the Lower Mississippi River from miles 94-95.
131. Lundi Gras River Parade and Fireworks Display
Sponsor: (King REX and King ZULU) New Orleans RiverWalk Marketing Group and ZULU Social Aid and Pleasure Club.
Date: Lundi Gras (the Monday before Mardi Gras).
Regulated Area: The Lower Mississippi River from mile 93 to mile 96, New Orleans, LA.
132. Independence Day Celebration
Sponsor: Saint John the Baptist Parish.
Date: July 3rd.
Regulated Area: In vicinity of Saint Peter's Church, all waters of the Lower Mississippi River miles 138.5-139.5, Reserve, LA.
133. Donaldsonville Fireworks Display
Sponsor: Donaldsonville Tourism Commission.
Date: July 3rd.
Regulated Area: In the vicinity of Crescent Park, the Lower Mississippi River miles 175-176, Donaldsonville, LA.
134. Independence Day Celebration
Sponsor: Saint Charles Parish Fireworks.
Date: July 3rd.
Regulated Area: Levee Batture, in the vicinity of I-310 Bridge, the Lower Mississippi River miles 121-122, Luling, LA.
135. Independence Day Celebration (Dueling Barges)
Sponsor: Riverfront Marketing Group.
Date: July 4th
Regulated Area: In vicinity of Jackson Square and Spanish Plaza, the Lower Mississippi River from miles 94.3-95.3.
136. Independence Day Celebration
Sponsor: WBRZ-TV, Baton Rouge, LA.
Date: July 4th.
Regulated Area: In the vicinity of the USS KIDD, the Lower Mississippi River from miles 228.8-229.8.
137. Fourth of July Star-Spangled Celebration
Sponsor: USS KIDD Veterans Memorial Baton Rouge, LA.
Date: July 4th.
Regulated Area: In the vicinity of 305 South River Road, the Lower Mississippi River miles 229.4-230.0, Baton Rouge, LA.
138. Independence Day Celebration
Sponsor: Boomtown Casino.
Date: July 4th.
Regulated Area: In the vicinity of Boomtown Casino, Harvey Canal miles 4-5.
139. Independence Day Celebration
Sponsor: City of Morgan City.
Date: July 4th.
Regulated Area: Morgan City Port Allen Route miles 4-5.
140. Louisiana Shrimp and Petroleum Festival
Sponsor: City of Morgan City.
Date: The 1st Sunday in September.
Regulated Area: Lower Atchafalaya River between the Berwick Bay Southern Pacific Railroad Bridge and 1/4 mile north of the Highway 182 Bridge on the Lower Atchafalaya River.
VII. SECTOR MOBILE
141. Seroma's 4th of July
Sponsor: Seroma's 4th of July.
Date: July 4th.
Regulated Area: All waters within a 200-foot radius of 30°24′27″ N/ 087°2′27″ W near Seville Harbor in Pensacola, FL.
142. South Georgia Showdown
Sponsor: Flint River Racers.
Date: One day during the last weekend in August or the first weekend in September.
Regulated Area: The Flint River from mile 21.8 to 22.6 near Bainbridge, GA.
143. Thunder on the Gulf
Sponsor: Gulf Coast Power Boat Association.
Date: 2 Days during the 3rd weekend in August.
Regulated Area: The waters off Orange Beach, Florida enclosed by a line starting at a point on the shore at approximately 30°15′38″ N/087°36′45″ W, then south to 30°14′18″ N/087°36′45″ W, then east, roughly parallel to the shore to 30°15′14″ N/087°33′36″ W, then north to a point on the shore at approximately 30°16′19″ N/087°33′36″ W, then west along the shore back to the starting point.
144. [RESERVED]
145. Christmas on the River
Sponsor: Demopolis Chamber of Commerce.
Date: The 1st Saturday in December from 6 p.m. to 8 p.m.
Regulated Area: Tombigbee River from Lock 4 to Caldwell Landing in Demopolis, AL.
146. Christmas by the River
Sponsor: Moss Point Active Citizens.
Date: The 1st Saturday in December from 5:00 p.m. to 7:30 p.m.
Regulated Area: Escataba River from the route 613 bridge east to the Moss Point City Docks.
147. Christmas on the Water
Sponsor: Biloxi Bay Chamber of Commerce.
Date: The 1st Saturday in December.
Regulated Area: Biloxi Channel from mile 5 to mile 28, Biloxi, MS.
148. Isle of Capri Anniversary Celebration
Sponsor: River Boat Corporation (Isle of Capri).
Date: August 1st from 8:45 p.m. to 10:00 p.m.
Regulated Area: All waters within 500 feet of 30°23′32″ N 088°51′26″ W (south of the Biloxi Ocean Springs Bridge in Biloxi, Mississippi).
149. Billy Bowlegs Pirate Festival
Sponsor: Greater Fort Walton Beach Chamber of Commerce.
Date: One day during the 1st weekend in June.
Regulated Area: In Santa Rosa Sound, the area East of the Brooks Bridge to Fort Walton Yacht Club at Smack Point and the area west of the Brooks Bridge to St. Simon's Church.
150. Dauphin Island Race
Sponsor: Fairhope, Lake Forest, Mobile, and Buccaneer Yacht Clubs.
Date: One day during the next-to-last or last weekend in April.
Regulated Area: Mobile Bay from the Middle Bay Light to Marker 37, Mobile, AL.
151. Big River Blast
Sponsor: City of Chattahoochee.
Date: One day during the 3rd weekend in April from 11:00 a.m. to 6:00 p.m.
Regulated Area: The Appalachicola River from the dam to 1/4 mile south of the dam, Chattahoochee, FL.
152. Chattahoochee Challenge
Sponsor: City of Chattahoochee.
Date: One day during the last weekend in March from 11:00 a.m. to 6:00 p.m. CST.
Regulated Area: The Appalachicola River from the dam to 1/2 mile south of the dam, Chattahoochee, FL.
153. Harbor Walk Fireworks Display
Sponsor: Legendary Incorporated.
Date: Memorial Day, Labor Day and every Thursday evening from May to September from 8:00 p.m. to 8:30 p.m.
Regulated Area: In East Pass, a 560-foot safety radius around the fireworks barge and push boat, Destin, FL.
154. Smoking the Sound
Sponsor: Biloxi Bay Chamber of Commerce.
Date: Two days between the 4th week in March and the 2nd week in April from 9:00 a.m. to 6:00 p.m. CST.
Regulated Area: Biloxi Ship Channel from buoy 2 to 35.
155. Christmas Afloat
Sponsor: Christmas Afloat Incorporated.
Date: Either the 2nd or 3rd Saturday in December.
Regulated Area: A portion of the Black Warrior River from the U.S. Highway 82 Bypass Bridge to mile 340 near Tuscaloosa, Alabama.
156. Air Sea Rescue
Sponsor: Gulf Coast Shows.
Date: One day during the 3rd or 4th weekend in February.
Regulated Area: On the Mobile River the area 1/2 mile upriver and 1/2 mile down river from the Mobile Convention Center.
157. Blessing of the Fleet
Sponsor: St. Michael's Catholic Church.
Date: The 1st Sunday in June.
Regulated Area: The Biloxi Channel from Daybeacon #1 to Buoy #34, Biloxi, Mississippi.
158. Blessing of the Fleet
Sponsor: St. Margaret Church.
Date: Either the 2nd or 3rd Sunday in May.
Regulated Area: Entire Bayou La Batre, Bayou La Batre, AL.
159. Flag Day Parade
Sponsor: Warrior River Boating Association.
Date: July 3rd.
Regulated Area: Warrior River Bankhead Lake River miles 368.4-386.4, Cottondale, AL.
160. Blue Angels Air Show
Sponsor: Naval Air Station Pensacola.
Date: One day during the 2nd weekend in July.
Regulated Area: All waters south of the Pensacola barrier islands within 5 nautical miles of 30°19′35″ N/ 087°08′29″ W, a point approximately 500 yards south of the Pensacola Beach water tower at the foot of the Pensacola fixed bridge adjacent to Little Sabine Bay, Pensacola, FL.
161. Boat Parade of Lights
Sponsor: City of Panama City/ St. Andrews Project.
Date: The 2nd Saturday in December from 5:30 p.m. to 7:30 p.m.
Regulated Area: St. Andrews Bay from St. Andrews Bay Yacht Club to St. Andrews Bay Marina in Pensacola, FL.
162. Mardi Gras Boat Parade
Sponsor: Gulf Shores Homeport Marina.
Date: The Monday before Mardi Gras.
Regulated Area: GIWW Pen Mobile Channel in Gulf Shores, AL from the Wharf Orange Beach, west to Oyster Bay and then east to Homeport Marina.
Wharf
Warf
163. Blessing of the Fleet
Sponsor: Panama City Marina.
Date: The last Saturday in March.
Regulated Area: In the southeast basin of Panama City Marina located at 30°09′06″ N/085°39′51″ W, all waters between Harrison Avenue and the seawall.
164. Mobile Boat and Sportsman Show
Sponsor: Gulf Coast Shows.
Date: Four days over either the 3rd or 4th weekend of February.
Regulated Area: On the Mobile River the area 1/2 mile upriver and 1/2 mile down river from the Mobile Convention Center, Mobile, AL.
165. Bass Tournament Weigh-In
Sponsor: Gulf Coast Shows.
Date: Two days during the 3rd or 4th weekend in February.
Regulated Area: On the Mobile River the area 1/2 mile upriver and 1/2 mile down river from the Mobile Convention Center, Mobile, AL.
166. Water Ski Demonstration
Sponsor: Gulf Coast Shows.
Date: One day during the 3rd or 4th weekend in February.
Regulated Area: On the Mobile River the area 1/2 mile upriver and 1/2 mile down river from the Mobile Convention Center, Mobile, AL.

Dated: March 30, 2009.
J.R. Whitehead,
Rear Admiral, U.S. Coast Guard, Commander, Eighth Coast Guard District.

[FR Doc. E9-11224 Filed 5-13-09; 8:45 am]

BILLING CODE 4910-15-P